DEPARTMENT OF THE INTERIOR

Bureau of Land Management

[LLWY921000, L71220000.EU0000, LVTFKX899020,18XL8069TF, WYW182550]

Notice of Realty Action: Non-Competitive (Direct) Sale of Public Lands in Big Horn County, WY (Merit, 10.53 Acres)

AGENCY: Bureau of Land Management, Interior.

ACTION: Notice of realty action.

SUMMARY: The Bureau of Land Management (BLM) proposes a non-competitive (direct) sale of 10.53 acres of public land in Big Horn County, Wyoming, to Merit Energy Company for the purpose of resolving an inadvertent unauthorized use of public lands. The sale will be subject to the applicable provisions of the Federal Land Policy Management Act of 1976, as amended (FLPMA), and BLM regulations. The appraised fair market value (FMV) for the sale parcel is $7,100.

DATES: Submit written comments regarding the sale parcel and associated Environmental Assessment until August 26, 2019.

ADDRESSES: Mail written comments concerning this direct sale to Field Manager, BLM, Cody Field Office, 1002 Blackburn Street, Cody, WY 82414.

FOR FURTHER INFORMATION CONTACT: Cara Blank, Realty Specialist, BLM, Cody Field Office, at the above address or telephone 307-578-5912. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The following public lands have been examined and found suitable for sale in accordance with the criteria in Section 203 of the FLPMA:

Sixth Principal Meridian, Wyoming

T. 56 N, R. 97 W,

sec. 19, lot 7.

The area described contains 10.53 acres.

The sale is in conformance with the BLM Cody Field Office Approved Resource Management Plan (September 18, 2015), which identifies this parcel of public lands as suitable for disposal on page 105 and management action 6011. FLPMA Section 203 allows for the disposal of public lands if they meet the following disposal criteria: (1) Such tract, because of its location or other characteristics, is difficult and uneconomic to manage as part of the public lands and is not suitable for management by another Federal department or agency. The subject parcel meets this criteria because the lands are difficult or expensive to manage, or needed for community expansion.

A parcel-specific Environmental Assessment (EA) document numbered DOI-BLM-WY-R020-2019-0006-EA was prepared in connection with this sale. A copy of the EA, Finding of No Significant Impact and Decision Record are available online at: https://eplanning.blm.gov/epl-front-office/eplanning/projectSummary.do?methodName=renderDefaultProjectSummary&projectId=116762.

Regulations at 43 CFR 2711.3-3(a) allow the direct sales of public lands when a competitive sale is not appropriate and the public interest would best be served by a direct sale. In this case, a competitive sale is not appropriate because the subject lands contain improvements that directly support the oil and gas activity in the area, rendering the land unusable by the public. The public's interest is best served by resolving the inadvertent unauthorized use and receiving payment at FMV for the public lands.

Upon publication of this Notice in the Federal Register, the above-described lands will be segregated from all forms of appropriation under the public lands laws, including the mining laws, except the sale provision of the FLPMA.

The temporary segregation will terminate upon; (1) issuance of a conveyance document, (2) publication in the Federal Register of a termination of the segregation, or (3) on Monday, July 12, 2021, unless extended by the BLM Wyoming State Director in accordance with 43 CFR 2711.1-2(d). Upon publication of this Notice in the Federal Register, the BLM is no longer accepting land use applications affecting the identified public lands, except applications for the amendment of previously-filed rights-of-way applications or existing authorizations to increase the term of the grants in accordance with 43 CFR 2807.15 and 2886.15.

The conveyance document, if issued, will be subject to the following terms, conditions, and reservations:

1. A right-of-way thereon for ditches or canals constructed by the authority of the United States, Act of August 30, 1890 (43 U.S.C. 945);

2. All mineral deposits in the lands so conveyed and to it, or persons authorized by it, the right to prospect for, mine and remove such deposits from the same under applicable law and regulations to be established by the Secretary of the Interior, together with all necessary access and exit rights.

3. All valid existing rights issued prior to conveyance.

The BLM will publish this Notice in the Lovell Chronicle newspaper once each week for three consecutive weeks. Only written comments submitted by postal service or overnight mail will be considered as properly filed. Electronic mail, facsimile, or telephone comments will not be considered.

Any adverse comments regarding the sale will be reviewed by the BLM Wyoming State Director or other authorized official of the Department of the Interior, who may sustain, vacate, or modify this realty action, in whole or in part. In the absence of any timely filed objections, this realty action will become the final determination of the Department of the Interior.

Before including your address, phone number, email address, or other personal identifying information in your comment, you should be aware that your entire comment—including your personal identifying information—may be made publicly available at any time. While you can ask us in your comment to withhold your personal identifying information from public review, we cannot guarantee that we will be able to do so. Comments, including names and street addresses of respondents, will be available for public review at the BLM Cody Field Office during regular business hours, except holidays.

Authority: 43 CFR 2711.

Mary Jo Rugwell,
State Director, Wyoming.

[FR Doc. 2019-14791 Filed 7-11-19; 8:45 am]

BILLING CODE 4310-22-P